DEPARTMENT OF STATE

[Delegation of Authority: 372]

Delegation Authorities and Functions Involving Administration of Department of State Personnel

By virtue of the authority vested in me by the Secretary of State in Delegation of Authority 148-1, dated September 9, 1981, and Delegation of Authority 198, dated September 16, 1992:

1. General Delegation to the Director General of the Foreign Service and Director of Human Resources

a. I hereby delegate to the Director General of the Foreign Service and Director of Human Resources (hereinafter, “the Director General”), the authority to prescribe regulations arising under the Foreign Service Act of 1980, as amended, the Civil Service Reform Act, and any other laws administered by or relating to the Bureau of Human Resources;

b. In accordance with 5 U.S.C. § 302 and Section 206 of the Foreign Service Act of 1980 (22 U.S.C. § 3926), as amended, I further delegate to the Director General, to the extent consistent with law, all human resources functions and authorities under Title 5 of the U.S. Code, the Foreign Service Act of 1980, and any other rules, regulations and laws pertaining to the employment, direction and general administration of personnel of the Department of State (“Department”) that are now delegated, or in the future may be delegated, to the Under Secretary for Management.

2. Specific Delegations to the Director General

In addition to the general delegation included in Section 1, I hereby delegate to the Director General, to the extent consistent with law, the functions and authorities specified in the following statutes:

a. Section 606(a)(5) of the Foreign Relations Authorization Act, 2000 and 2001, as enacted in Public Law 106-113 (relating to the development of annual physical fitness standards for Diplomatic Security agents and evaluation of training programs), in consultation with the Assistant Secretary for Diplomatic Security.

c. 22 U.S.C. § 4823 (relating to recruitment and hiring of women and members of minority groups, and qualifications for assignment or appointment of Diplomatic Security agents, including age restrictions and other physical standards), in consultation with the Assistant Secretary of Diplomatic Security.

d. 5 U.S.C. § 5596 (relating to findings, resolution of claims, and other actions under the Back Pay Act), in consultation with the Office of the Legal Adviser.

3. Delegations Revoked

This Delegation of Authority supersedes any prior delegation on this subject to the extent such delegation may be inconsistent herewith. The following delegations of authority are expressly revoked:

(1) Delegation of Authority 221-8 dated December 15, 2005;

(2) Two documents both designated as “Delegation of Authority 221-9,” dated June 14, 2011 and November 8, 2011.

4. Technical Provisions

(a) Notwithstanding any provisions of this Delegation of Authority, the Secretary, Deputy Secretary, Deputy Secretary for Management and Resources, or the Under Secretary for Management may at any time exercise the functions herein delegated, and the Director General shall be responsible for referring to the Secretary of State or Under Secretary for Management any matter on which action would appropriately be taken by the Secretary or Under Secretary for Management.

(b) Any actions related to the functions described herein that may have been taken prior to the date of this delegation of authority by the Director General are hereby affirmed and ratified. Such actions shall remain in force as if taken under this delegation of authority, unless or until such actions are rescinded, amended or superseded.

(c) Any act, executive order, regulation, manual or procedure subject to, affected, or incorporated by, this delegation shall be deemed to be such act, executive order, regulation, manual or procedure as amended from time to time.

(d) As used in this delegation of authority, the word “function” includes any duty, obligation, power, authority, responsibility, right, privilege, discretion, or activity.

(e) This authority may be re-delegated.

(f) This delegation shall be published in the Federal Register.

Dated: April 4, 2014.
Patrick F. Kennedy,
Under Secretary of State for Management.

[FR Doc. 2014-11220 Filed 5-14-14; 8:45 am]

BILLING CODE 4710-15-P